DEPARTMENT OF COMMERCE

National Oceanic and Atmospheric Administration

50 CFR Part 648

[Docket No. 061124307-7013-02; I.D. 112106A]

RIN 0648-AT65

Fisheries of the Northeastern United States; Atlantic Mackerel, Squid, and Butterfish Fisheries; Specifications and Management Measures; Correction

AGENCY: National Marine Fisheries Service (NMFS), National Oceanic and Atmospheric Administration (NOAA), Commerce.

ACTION: Final rule; correction.

SUMMARY: On January 30, 2007, NMFS published a final rule implementing 2007 specifications and management measures for Atlantic mackerel, squid, and butterfish (MSB) and modifying existing management measures. The preamble to the final rule contains Table 1 announcing the specifications for Atlantic mackerel, squid, and butterfish fisheries for the 2007 fishing year. Table 2 of the preamble to the final rule announces the trimester allocation of the Loligo squid quota in 2007. The headings to both tables inadvertently indicated that the specifications and allocation for 2007 were “proposed” rather than “final”. This document corrects those errors.

DATES: Effective March 1, 2007.

FOR FURTHER INFORMATION CONTACT: Carrie Nordeen, Fishery Policy Analyst, 978- 281-9272, fax 978-281-9135.

SUPPLEMENTARY INFORMATION: Regulations implementing the Fishery Management Plan for the Atlantic Mackerel, Squid, and Butterfish Fisheries (FMP) appear at 50 CFR part 648, subpart B, and regulations governing foreign fishing appear at 50 CFR part 600, subpart F. The final rule published on January 30, 2007 (72 FR 4211) fulfilled NMFS regulatory requirements at §§ 648.21 and 600.516(c) based on the maximum optimum yield (Max OY) of each fishery as established by the regulations, annually specify the amounts of the initial optimum yield (IOY), allowable biological catch (ABC), domestic annual harvest (DAH), and domestic annual processing (DAP), as well as, where applicable, the amounts for total allowable level of foreign fishing (TALFF) and joint venture processing (JVP) for the affected species managed under the FMP. The final specifications for 2007 were identified in Table 1 of the preamble to the final rule. However, the heading to Table 1 inadvertently indicated that the specifications were “proposed” rather than “final”. This document corrects the heading for Table 1 appearing on page 4212 (FR Doc. E7-1445) of the preamble contained in the January 30, 2007 Federal Register document. The remainder of Table 1 is republished in its entirety for the public's convenience.

The final rule published January 30, 2007 (72 FR 4213) also identified the distribution of the trimester allocation of Loligo squid quota for the 2007 fishing year. However, the heading to Table 2 inadvertently indicated that the trimester allocation was “proposed” rather than “final”. This document corrects the heading for Table 2 appearing on page 4213 (FR Doc. E7-1445) of the preamble contained in the January 30, 2007 Federal Register final rule document. The remainder of Table 2 is republished in its entirety for the public's convenience.

Correction

Accordingly, the final rule published on January 30, 2007, at 72 FR 4211 (FR Doc. E7-1445), to be effective March 1, 2007, is corrected as follows:

1. On page 4212, Table 1, title heading is corrected and the table text is republished to read as follows:

Table 1. Final Specifications, in Metric Tons (mt), for Atlantic Mackerel, Squid, and Butterfish for 2007 Fishing Year.
Specifications | Loligo | Illex | Mackerel | Butterfish
Max OY | 26,000 | 24,000 | N/A | 12,175
ABC | 17,000 | 24,000 | 186,000 | 4,545
IOY | 16,490¹ | 24,000 | 115,000² | 1,681
DAH | 16,490 | 24,000 | 115,000³ | 1,681
DAP | 16,490 | 24,000 | 100,000 | 1,681
JVP | 0 | 0 | 0 | 0
TALFF | 0 | 0 | 0 | 0
¹ Excludes 510 mt for Research Quota (RQ).
² IOY may be increased during the year, but the total ABC will not exceed 186,000 mt.
³ Includes 15,000 mt of Atlantic mackerel recreational allocation.

2. On page 4213, Table 2, title heading is corrected and the table text is republished to read as follows:

Table 2. Trimester Allocation of Loligo Squid Quota in 2007
Trimester | Percent | Metric Tons¹ | RQ (mt)
I (Jan-Apr) | 43.0 | 7,090.7 | NA
II (May-Aug) | 17.0 | 2,803.3 | NA
III (Sep-Dec) | 40.0 | 6,596.0 | NA
Total | 100 | 16,490 | 510
¹ Trimester allocations after 510 mt RQ deduction.

Dated: February 01, 2007.
Samuel D. Rauch III,
Deputy Assistant Administrator for Regulatory programs, National Marine Fisheries Service.

[FR Doc. E7-2042 Filed 2-6-07; 8:45 am]

BILLING CODE 3510-22-S